DEPARTMENT OF COMMERCE

National Oceanic and Atmospheric Administration

RIN: 0648-XE48

South Atlantic Fishery Management Council, Caribbean Fishery Management Council and Gulf of Mexico Fishery Management Council; Public Meetings

AGENCY: National Marine Fisheries Service (NMFS), National Oceanic and Atmospheric Administration, Commerce.

ACTION: Notice of a scoping meeting.

SUMMARY: The South Atlantic, Caribbean, and Gulf of Mexico Fishery Management Councils (Councils) will hold a public scoping meeting regarding amending the spiny lobster fishery management plan to address the importation of spiny lobster products that do not meet U.S. conservation standards. The amendment will examine various alternatives to restrict imports of spiny lobster into the United States to a minimum acceptable length and/or weight. Spiny Lobsters are currently being imported below the U.S. minimum size limits. Much of the imported lobster does not meet the minimum size limits in the country of origin. This is adversely impacting recruitment throughout Florida and the Caribbean and, as a result, the status of spiny lobster in Caribbean and U.S. waters because of the distribution and dispersal of larvae.

DATES: The public scoping meeting will be held January 24, 2008, beginning at 6 p.m.

ADDRESSES: The meeting will be held at the Islander Hotel, 82100 Overseas Highway, Islamorada, FL 33036; telephone: (800) 753-6002 or (305) 664-2031. Written comments must be received in the South Atlantic Council's office by 5 p.m. on January 28, 2008.

Written comments should be sent to Bob Mahood, Executive Director, South Atlantic Fishery Management Council, 4055 Faber Place Drive, Suite 201, North Charleston, SC 29405, or via email to: SpLobScoping@safmc.net. Copies of the Scoping Document are available from Kim Iverson, South Atlantic Fishery Management Council, 4055 Faber Place Drive, Suite 201, North Charleston, SC 29405; telephone: (843) 571-4366 or toll free at (866) SAFMC-10.

FOR FURTHER INFORMATION CONTACT: Kim Iverson, South Atlantic Fishery Management Council, 4055 Faber Place Drive, Suite 201, North Charleston, SC 29405; telephone: (843) 571-4366; fax: (843) 769-4520; email address: kim.iverson@safmc.net.

Special Accommodations

These meetings are physically accessible to people with disabilities. Requests for sign language interpretation or other auxiliary aids should be directed to the Council office (see ADDRESSES) by January 21, 2007.

Dated: December 18, 2007.
Tracey L. Thompson,
Acting Director, Office of Sustainable Fisheries, National Marine Fisheries Service.

[FR Doc. E7-24817 Filed 12-20-07; 8:45 am]

BILLING CODE 3510-22-S